DEPARTMENT OF TRANSPORTATION

Federal Railroad Administration

Restoration and Enhancement Grants Program

AGENCY: Federal Railroad Administration (FRA), Department of Transportation (DOT).

ACTION: Notice of Funding Opportunity (NOFO or notice); extension and supplemental funding notice.

SUMMARY: FRA is adding funding to and extending the application submittal period for its NOFO for the Restoration and Enhancement Grants Program (R&E Program) published on November 6, 2019. The basis for the funding increase and extension is the appropriation of additional amounts for the Restoration and Enhancement Grants Program in Fiscal Year 2020 together with the government's goal of efficiently administering such funds.

DATES: The original due date for applications was January 6, 2020. The period for submitting applications to the NOFO published on November 6, 2019 (84 FR 59907) https://www.govinfo.gov/content/pkg/FR-2019-11-06/pdf/2019-24225.pdf, is extended. Applications must now be submitted by 5:00 p.m. eastern on February 5, 2020.

FOR FURTHER INFORMATION CONTACT: For further information regarding the R&E Program and projects, please contact Ruthie Americus, Office of Policy and Planning, Federal Railroad Administration,1200 New Jersey Avenue SE, Room W36-403, Washington, DC 20590; email: ruthie.americus@dot.gov; phone: 202-493-0431. Grant application submission and processing questions should be addressed to Amy Houser, Office of Program Delivery, Federal Railroad Administration, 1200 New Jersey Avenue SE, Room W36-412, Washington, DC 20590; email: amy.houser@dot.gov; phone: 202-493-0303.

SUPPLEMENTARY INFORMATION:

Amendment

FRA amends its NOFO for the Restoration and Enhancement Grants Program published on November 6, 2019 (84 FR 59907) https://www.govinfo.gov/content/pkg/FR-2019-11-06/pdf/2019-24225.pdf by: (1) Adding an additional $1,918,600 for a total of $26,337,600 and (2) extending the period for submitting applications to February 5, 2020.

Issued in Washington, DC.
Ronald L. Batory,
Administrator, Federal Railroad Administration.

[FR Doc. 2019-28305 Filed 12-31-19; 8:45 am]

BILLING CODE 4910-06-P